DEPARTMENT OF LABOR

Employment and Training Administration

[TA-W-52,935]

Agilent Technologies, Loveland, CO; Notice of Termination of Investigation

Pursuant to section 221 of the Trade Act of 1974, as amended, an investigation was initiated on September 24, 2003, in response to a worker petition filed on behalf of workers of Agilent Technologies, Loveland, Colorado.

The petition regarding the investigation has been deemed invalid. Consequently, the investigation has been terminated.

Signed at Washington, DC, this 16th day of October, 2003.
Elliott S. Kushner,
Certifying Officer, Division of Trade Adjustment Assistance.

[FR Doc. 03-29120 Filed 11-20-03; 8:45 am]

BILLING CODE 4510-30-P